DEPARTMENT OF JUSTICE

Notice of Lodging of Proposed Consent Decree Under the Comprehensive Environmental Response, Compensation, and Liability Act (CERCLA)

Notice is hereby given that on March 30, 2010, a Consent Decree in United States of America v. the Commonwealth of Pennsylvania, Civil Action No. 10-cv-1382, was lodged with the United States District Court for the Eastern District of Pennsylvania.

The United States filed a complaint concurrently with the settlement agreement in which it asserts claims against the Commonwealth of Pennsylvania pursuant to sections 107 and 113 of the Comprehensive Environmental Response, Compensation and Liability Act, 42 U.S.C. 9607 and 9613. The claims arise from asbestos contamination at the Valley Forge Asbestos Release Site (the “Site”), located within the Valley Forge National Historical Park in Montgomery County, Pennsylvania. As alleged in the complaint, beginning in the late 1890's, several companies owned and operated an asbestos manufacturing facility on 46 acres within the Site. The Commonwealth operated a State park at the Site adjacent to the manufacturing operations during the time of disposal of asbestos-containing wastes, and the area of the former State park also became contaminated with asbestos-containing wastes. In 1976, the United States purchased the property formerly owned by the asbestos manufacturers, and the Commonwealth of Pennsylvania transferred the former State park to the United States. The United States created the Valley Forge National Historical Park which is now comprised of the former State park and the property the United States acquired from the asbestos manufacturers. In the complaint, the United States, on behalf of the Department of the Interior and the Environmental Protection Agency, seeks reimbursement of costs incurred and to be incurred to remedy the asbestos contamination at the Site.

The Settlement Agreement resolves the claims of the United States and the potential claims or counterclaims of the Commonwealth of Pennsylvania at the Site. The National Park Service has selected a remedy for the Site and, under the Settlement Agreement, the Commonwealth will pay sixty percent of the cost of implementing the remedy at the Site and the United States will pay forty percent. Specifically, the Settlement Agreement obligates Pennsylvania to pay $5.2 million to the United States upon entry of the Agreement by the Court. No more than one year after entry of the Agreement, the Commonwealth will set aside $2 million into a special restricted account which will be used to pay sixty percent of the cost of performance of the remedy at the Site above $8.66 million up to a maximum of $12 million. In the event that the costs of the remedy exceed $12 million, the Agreement provides that the United States will pay $400,000 of each increment of $1 million and Pennsylvania will pay $600,000. The United States as the lead agency at the Site will oversee implementation of the remedy.

The Department of Justice will receive for a period of sixty (60) days from the date of this publication comments relating to this proposed Consent Decree. Comments should be addressed to the Assistant Attorney General, Environment and Natural Resources Division, and either e-mailed to pubcomment-ees.enrd@usdoj.gov or mailed to P.O. Box 7611, U.S. Department of Justice, Washington, DC 20044-7611, Attention: Nancy Flickinger (EES), and should refer to United States of America v. Commonwealth of Pennsylvania, Civil Action No. 10-cv-1382 and DOJ #90-11-2-06991/2.

The proposed Consent Decree may be examined at the Office of the United States Attorney for the Eastern District of Pennsylvania, 615 Chestnut Street, Suite 1250, Philadelphia, PA 19016. The consent decree also may be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax No. (202) 514-0097, phone confirmation number (202) 514-1547. In requesting a copy from the Consent Decree Library, please enclose a check in the amount of $35.75 (25 cents per page reproduction cost for a full copy) payable to the U.S. Treasury.

Maureen Katz,
Assistant Chief, Environmental Enforcement Section, Environment and Natural Resources Division.

[FR Doc. 2010-7526 Filed 4-2-10; 8:45 am]

BILLING CODE 4410-15-P